DEPARTMENT OF TRANSPORTATION

Surface Transportation Board

[STB Finance Docket No. 33854]

Meridian Southern Railway, LLC—Acquisition and Operation Exemption—Line of Kansas City Southern Railway Company

Meridian Southern Railway, LLC (MDS), a noncarrier, has filed a verified notice of exemption under 49 CFR 1150.31 to acquire (by purchase) Kansas City Southern Railway Company's ownership interest in, and to operate, approximately 54.5 miles of rail line between approximately milepost 134.2 at Meridian, MS, and approximately milepost 79.7 at Waynesboro, MS, in Clarke, Lauderdale and Wayne Counties, MS.¹

¹ MDS certifies that its projected revenues as a result of this transaction will not result in the creation of a Class I or Class II rail carrier.

The transaction is expected to be consummated on or after March 31, 2000, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 33854, must be filed with the Surface Transportation Board, Office of the Secretary, Case Control Unit, 1925 K Street, NW., Washington, DC 20423-0001. In addition, one copy of each pleading must be served on Kevin M. Sheys, Oppenheimer Wolff Donnelly & Bayh LLP, 1350 Eye Street, NW., Suite 200, Washington, DC 20005.

Board decisions and notices are available on our website at “WWW.STB.DOT.GOV.”

Decided: March 29, 2000.
By the Board, David M. Konschnik, Director, Office of Proceedings.
Vernon A. Williams,
Secretary.

[FR Doc. 00-8237 Filed 4-4-00; 8:45 am]

BILLING CODE 4915-00-P